DEPARTMENT OF COMMERCE

National Oceanic and Atmospheric Administration

RIN 0648-XF897

Endangered and Threatened Species; Notice of Recovery Plan Workshop

AGENCY: National Marine Fisheries Service (NMFS), National Oceanic and Atmospheric Administration (NOAA), Commerce.

ACTION: Notice of workshop.

SUMMARY: We, NMFS, are convening a workshop to present the Southern Distinct Population Segment of Green Sturgeon (Acipenser medirostris) Draft Recovery Plan (Plan). The notice announcing availability of the Plan was published in the Federal Register on January 9, 2018. Our workshop will be held on March 5, 2018, at the NMFS office in Sacramento, CA and will be open to the public. With this notice, we announce the details of a public workshop.

DATES: The workshop will be held on Monday, March 5, 2018, from 1 p.m. to 5 p.m. RSVP date: If you plan to attend the workshop, please contact Joe Heublein (see FOR FURTHER INFORMATION CONTACT) no later than February 26, 2018.

ADDRESSES: The meeting will be held at the National Marine Fisheries Service, 5-100, 650 Capitol Mall, Sacramento, CA 95814.

FOR FURTHER INFORMATION CONTACT: Joe Heublein, NMFS Green Sturgeon Recovery Coordinator, at (916) 930-3719 or joe.heublein@noaa.gov.

SUPPLEMENTARY INFORMATION:

Background

On April 7, 2006, we, NMFS, listed the southern distinct population segment (sDPS) of the North America green sturgeon (Acipenser medirostris) as a threatened species under the Endangered Species Act (ESA) (71 FR 17757). A recovery outline was completed in 2010. On January 9, 2018, we announced the availability of the Southern Distinct Population Segment of Green Sturgeon Draft Recovery Plan (Plan) in the Federal Register (83 FR 1025). The text of the Plan can be found here: http://www.westcoast.fisheries.noaa.gov/protected_species/green_sturgeon/green_sturgeon_pg.html. The Plan lays out a recovery strategy based on the best available science, identifies site-specific actions with time lines and costs, and includes recovery goals and criteria. Public comments on the Plan will be accepted through March 12, 2018. Details on how to submit comments can be found in our January 9, 2018 notice (83 FR 1025).

Recovery Plan Workshop Announcement

On March 5, 2018, NMFS will hold a public workshop at the NMFS office in Sacramento, CA to present the Plan. We invite any interested member of the public to attend. NMFS will present the details of the Plan and provide a time-limited question and answer period during which attendees may ask NMFS about the information presented. NMFS will provide a moderator to manage the workshop as well as a notetaker to document input received.

This workshop will be open to the public. If you plan to attend the workshop, please contact Joe Heublein at the address listed above by February 26, 2018, so we can ensure sufficient space for all participants. Please also plan to arrive at the workshop at least 30 minutes prior to the start time to allow time to clear the security screening checkpoint. The workshop is accessible to persons with disabilities. Send requests for sign language interpretation or other auxiliary aids at least five business days in advance to Joe Heublein at (916) 930-3719.

Authority: 16 U.S.C. 1531 et seq.

Dated: February 7, 2018.
Angela Somma,
Chief, Endangered Species Conservation Division, Office of Protected Resources, National Marine Fisheries Service.

[FR Doc. 2018-02743 Filed 2-9-18; 8:45 am]

BILLING CODE 3510-22-P